DEPARTMENT OF COMMERCE

International Trade Administration

[A-570-908]

Sodium Hexametaphosphate From the People's Republic of China: Continuation of Antidumping Duty Order

AGENCY: Enforcement and Compliance, International Trade Administration, Department of Commerce.

SUMMARY: As a result of the determinations by the Department of Commerce (Commerce) and the International Trade Commission (ITC) that revocation of the antidumping duty order on sodium hexametaphosphate (SHMP) from the People's Republic of China (China) would likely lead to a continuation or recurrence of dumping and material injury to an industry in the United States, Commerce is publishing a notice of continuation of the antidumping duty order.

DATES: Applicable March 1, 2019.

FOR FURTHER INFORMATION CONTACT: Christian Llinas, AD/CVD Operations, Office V, Enforcement and Compliance, International Trade Administration, U.S. Department of Commerce, 1401 Constitution Avenue NW, Washington, DC 20230; telephone: (202) 482-4877.

SUPPLEMENTARY INFORMATION:

Background

On March 19, 2008, Commerce published in the Federal Register the antidumping order on SHMP from China.¹ On June 1, 2018, Commerce published the notice of initiation of the second sunset review of the antidumping duty order on SHMP from China, pursuant to section 751(c) of the Tariff Act of 1930, as amended (the Act).² On June 8, 2018, Commerce received a notice of intent to participate from ICL Specialty Products, Inc. and Innophos, Inc. (collectively, the petitioners) as domestic interested parties.³ On July 2, 2018, we received a complete substantive response from the domestic interested parties.⁴ We received no substantive responses from respondent interested parties with respect to the order covered by this sunset review, nor was a hearing requested. Pursuant to section 751(c)(3)(B) of the Act and 19 CFR 351.218(e)(1)(ii)(C)(2), Commerce conducted an expedited (120-day) sunset review of this order.

¹ Notice of Antidumping Duty Order: Sodium Hexametaphosphate from the People's Republic of China, 73 FR 14772 (March 19, 2008).

² See Initiation of Five-Year (Sunset) Reviews, 83 FR 25436 (June 1, 2018).

³ See the petitioners' Letter, “Sodium Hexametaphosphate from China: Notice of Intent to Participate,” (June 8, 2018).

⁴ See the petitioners' Letter, “Sodium Hexametaphosphate (SHMP) from China: Substantive Response to Notice of Initiation of Five-Year (Sunset) Review of the Antidumping Duty Order,” (July 2, 2018).

As a result of its review, Commerce determined pursuant to section 751(c)(1) and 752(c) of the Act, that revocation of the antidumping duty order would likely lead to a continuation or recurrence of dumping.⁵ Commerce, therefore, notified the ITC of the magnitude of the dumping margins likely to prevail should the antidumping duty order be revoked. On December 12, 2018, the ITC published its determination, pursuant to section 751(c) of the Act, that revocation of the antidumping duty order on SHMP from China would likely lead to a continuation or recurrence of material injury to an industry in the United States within a reasonably foreseeable time.⁶

⁵ See Sodium Hexametaphosphate from the People's Republic of China: Final Results of the Expedited Second Sunset Review of the Antidumping Duty Order, 83 FR 50338 (October 5, 2018) (Final Results) and accompanying Issues and Decision Memorandum.

⁶ See Sodium Hexametaphosphate from China: Second Review Investigation No. 731-TA-1110, 83 FR 63905 (December 12, 2018).

Scope of the Order

The merchandise subject to the order is sodium hexametaphosphate. For a complete description of the scope of this order, see the Issues and Decision Memorandum at 2.

Continuation of the Order

As a result of the determinations by Commerce and the ITC that revocation of the antidumping duty order would likely lead to a continuation or recurrence of dumping and material injury to an industry in the United States, pursuant to section 751(d)(2) of the Act and 19 CFR 351.218(a), Commerce hereby orders the continuation of the antidumping duty order on SHMP from China. U.S. Customs and Border Protection will continue to collect antidumping duty cash deposits at the rates in effect at the time of entry for all imports of subject merchandise.

The effective date of the continuation of the antidumping order will be the date of publication in the Federal Register of this notice of continuation. Pursuant to section 751(c)(2) of the Act and 19 CFR 351.218(c)(2), Commerce intends to initiate the next sunset review of the order not later than 30 days prior to the fifth anniversary of the effective date of continuation.

This five-year sunset review and this notice are in accordance with section 751(c) and 751(d)(2) of the Act and published pursuant to section 777(i)(1) of the Act and 19 CFR 351.218(f)(4).

Dated: February 25, 2019.
Gary Taverman,
Deputy Assistant Secretary for Antidumping and Countervailing Duty Operations, performing the non-exclusive functions and duties of the Assistant Secretary for Enforcement and Compliance.

[FR Doc. 2019-03682 Filed 2-28-19; 8:45 am]

BILLING CODE 3510-DS-P